DEPARTMENT OF COMMERCE

International Trade Administration

[A-570-909]

Certain Steel Nails From the People's Republic of China: Extension of Time Limit for the Final Results of the Second Antidumping Duty Administrative Review

AGENCY: Import Administration, International Trade Administration, Department of Commerce.

DATES: Effective Date: February 15, 2012.

FOR FURTHER INFORMATION CONTACT: Alexis Polovina or Javier Barrientos, AD/CVD Operations, Office 9, Import Administration, International Trade Administration, U.S. Department of Commerce, 14th Street and Constitution Avenue NW., Washington, DC 20230; telephone (202) 482-3927 or (202) 482-2243 respectively.

Background

On September 12, 2011, the Department of Commerce (“Department”) published in the Federal Register the Preliminary Results of the antidumping duty administrative review on certain steel nails (“steel nails”) from the People's Republic of China (“PRC”).¹ On December 12, 2011, the Department extended the deadline for the final results in the instant review.² Subsequent to the Preliminary Results, the Department issued questionnaires requesting more information from the respondents' producers and extended the deadlines for the submission of publicly available information to value the factors of production, as well as for case and rebuttal briefs. The period of review (“POR”) is August 1, 2009, through July 31, 2010. The final results are currently due no later than February 9, 2012.

¹ See Certain Steel Nails From the People's Republic of China: Preliminary Results and Preliminary Rescission, in Part, of the Antidumping Duty Administrative Review and Preliminary Intent To Rescind New Shipper Review, 76 FR 56147 (September 12, 2011) (“Preliminary Results”).

² See Certain Steel Nails From the People's Republic of China: Extension of Time Limit for the Final Results of the Second Antidumping Duty Administrative Review, 76 FR 77205 (December 12, 2011).

Extension of Time Limit for the Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published.

The submission of the post-Preliminary Results questionnaire responses, along with the extensions of the deadlines for submitting surrogate value data and case/rebuttal briefs, necessitates additional time for the Department to consider the additional information and the arguments raised by parties, many of which involve complex issues. As a result, the Department finds that it is not practicable to issue the final results of this review within the current time limits. Therefore, in accordance with section 751(a)(3)(A) of the Act, the Department is extending the time for the completion of the final results of this review to February 23, 2012.

We are issuing and publishing this notice in accordance with sections 751(a)(1) and 777(i)(1) of the Act.

Dated: February 7, 2012.
Gary Taverman,
Acting Deputy Assistant Secretary for Antidumping and Countervailing Duty Operations.

[FR Doc. 2012-3574 Filed 2-14-12; 8:45 am]

BILLING CODE 3510-DS-P